DEPARTMENT OF TRANSPORTATION

Maritime Administration

[USCG-2007-28532]

Surrender and Termination of the Port Dolphin Energy LLC License To Own, Construct and Operate the Port Dolphin Deepwater Port

AGENCY: Maritime Administration, Department of Transportation.

ACTION: Notice of license surrender and termination.

SUMMARY: The Maritime Administration (MARAD) announces the surrender and termination of the Port Dolphin Energy LLC (Port Dolphin Energy) Deepwater Port License (“License”). All actions and obligations required by the License to own, construct and operate a deepwater port issued to Port Dolphin Energy on May 7, 2010, are terminated. Pursuant to Section 1503(h) of the Deepwater Port Act of 1974, as amended, a deepwater port license may remain in effect until such time it is either suspended or revoked by the Secretary of Transportation (Secretary) or surrendered by the licensee. MARAD has approved this action in response to Port Dolphin's notification of its decision to abandon its plans to construct and operate the proposed Port Dolphin Energy deepwater port, and surrender its License for the proposed facility.

DATES: The date of surrender and termination of all actions and obligations required under the license was effective on April 25, 2016.

ADDRESSES: The public docket for the Port Dolphin Energy deepwater port is identified by Docket No. USCG-2007-28532 and is maintained by the U.S. Department of Transportation, Docket Management Facility, West Building, Ground Floor, Room W12-140, 1200 New Jersey Avenue SE., Washington, DC 20590.

The Federal Docket Management Facility accepts hand-delivered submissions, and makes docket contents available for public inspection and copying at this address between 9 a.m. and 5 p.m., Monday through Friday, except Federal holidays. The Federal Docket Management Facility's telephone number is 202-366-9826 or 202-366-9317, the fax number is 202-493-2251 and the Web site for electronic submissions or for electronic access to docket contents is http://www.regulations.gov. Keyword search “USCG-2007-28532.”

FOR FURTHER INFORMATION CONTACT: If you have questions about the Port Dolphin Energy deepwater port project, please contact Ms. Yvette M. Fields, Director, Office of Deepwater Ports and Offshore Activities at (202) 366-0926 or Yvette.Fields@dot.gov.

SUPPLEMENTARY INFORMATION: On August 28, 2015, MARAD received notification from the licensee, Port Dolphin Energy, of its intention to surrender its License to own, construct and operate a liquefied natural gas (LNG) deepwater port proposed for location approximately 28 miles off the western coast of Florida, and approximately 42 miles from Port Manatee, Manatee County, Florida. After careful review of the License surrender request, MARAD determined that all outstanding obligations required of Port Dolphin Energy for the surrender and termination of its License were satisfied. Accordingly, on April 25, 2016, the Maritime Administrator approved the surrender and termination of the License including termination of the related financial guarantees and all other obligations required under the License. MARAD has issued notification letters regarding this final agency action to Port Dolphin Energy and to all relevant Federal and State agencies involved in the original approval of the Port Dolphin project. Further information pertaining to this project may be found in the public docket (see ADDRESSES).

Authority: 49 CFR 1.93(h).

Dated: May 6, 2016.
By Order of the Maritime Administrator.
T. Mitchell Hudson, Jr.,
Secretary, Maritime Administration.

[FR Doc. 2016-11079 Filed 5-10-16; 8:45 am]

BILLING CODE 4910-81-P